NATIONAL CREDIT UNION ADMINISTRATION

Agency Information Collection Activities; Proposed Collections; Comment Request

AGENCY: National Credit Union Administration (NCUA).

ACTION: Notice and request for comment.

SUMMARY: NCUA, as part of its continuing effort to reduce paperwork and respondent burden, invites the general public and other Federal agencies to comment on these reinstatements of previously approved collections, as required by the Paperwork Reduction Act of 1995 (Pub. L. 104-13, 44 U.S.C. Chapter 35).

DATES: Comments should be received on or before June 10, 2016 to be assured consideration.

ADDRESSES: Interested persons are invited to submit written comments on the information collection to Troy Hillier, National Credit Union Administration, 1775 Duke Street, Alexandria, Virginia 22314-3428; Fax No. 703-519-8595; or Email at PRAComments@NCUA.gov.

FOR FURTHER INFORMATION CONTACT: Requests for additional information should be directed to the address above.

SUPPLEMENTARY INFORMATION: OMB Number: 3133-0039.

Title: Borrowed Funds from Natural Persons, 12 CFR 701.38.

Abstract: Section 701.38 of the NCUA regulations grants federal credit unions the authority to borrow funds from a natural person as long as they maintain a signed promissory note which includes the terms and conditions of maturity, repayment, interest rate, method of computation and method of payment; and the promissory note and any advertisements for borrowing have clearly visible language stating that the note represents money borrowed by the credit union and does not represent shares and is not insured by the National Credit Union Insurance Fund (NCUSIF). NCUA will use this information to ensure a credit union's natural person borrowings are in compliance and address all regulatory and safety and soundness requirements.

Type of Review: Reinstatement without change of a previously approved collection.

Affected Public: Private sector: not-for-profit institutions.

Estimated No. of Respondents: 187.

Estimated No. of Responses per Respondent: 2.

Estimated Burden Hours per Response: 2.5.

Estimated Total Annual Burden Hours: 935.

OMB Number: 3133-0125.

Title: Appraisals, 12 CFR part 722.

Abstract: NCUA Regulation part 722 implements a statutory requirement that appraisals used in real estate transactions be made in writing and meet certain standards. This collection of information is associated with the requirement that credit unions retain a copy of the written assessment for real estate transactions over $250,000. Each federally insured credit union uses the information in determining whether and upon what terms to enter into a federally related transaction, such as making a loan secured by real estate. In addition, NCUA uses this information in its examinations of federally insured credit unions to ensure that extensions of credit by the federally-insured credit union that are collateralized by real estate are undertaken in accordance with appropriate safety and soundness principles.

Type of Review: Reinstatement without change of a previously approved collection.

Affected Public: Private sector; not-for-profit institutions.

Estimated No. of Respondents: 4,000.

Estimated No. of Responses per Respondent: 280.

Estimated Burden Hours per Response: 0.25.

Estimated Total Annual Burden Hours: 280,000.

OMB Number: 3133-0140.

Title: Secondary Capital for Low-Income Designated Credit Unions.

Abstract: Section 701.34 (b) of NCUA's regulations provide that designated low income credit unions (LICU) may accept secondary capital under certain conditions. This collection of information is necessary to obtain the information needed to ensure compliance with requirements related to acceptance and management of secondary capital. For those LICUs wishing to exercise their option to access secondary capital, NCUA requires that credit unions accepting secondary capital must develop and submit a plan for its acquisition, use and repayment. The information is used by NCUA to determine if the secondary capital will be managed by the credit union without risk to its financial condition, the U.S. government or the National Credit Union Share Insurance Fund.

Type of Review: Reinstatement without change of a previously approved collection.

Affected Public: Private sector; not-for-profit institutions.

Estimated No. of Respondents: 72.

Estimated No. of Responses per Respondent: 1.

Estimated Burden Hours per Response: 15.92.

Estimated Total Annual Burden Hours: 1,146.

Request for Comments: Comments submitted in response to this notice will be summarized and included in the request for Office of Management and Budget approval. All comments will become a matter of public record. The public is invited to submit comments concerning: (a) Whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on April 6, 2016.
Dated: April 6, 2016.
Dawn D. Wolfgang,
NCUA PRA Clearance Officer.

[FR Doc. 2016-08224 Filed 4-8-16; 8:45 am]

BILLING CODE 7535-01-P